DEPARTMENT OF HOMELAND SECURITY

Transportation Security Administration

[Docket No. TSA-2014-001]

Intent To Request Revision From OMB of One Current Public Collection of Information: TSA Pre✓® Application Program

AGENCY: Transportation Security Administration, DHS.

ACTION: 60-Day notice.

SUMMARY: The Transportation Security Administration (TSA) invites public comment on one currently approved Information Collection Request (ICR), Office of Management and Budget (OMB) control number 1652-0059, abstracted below that we will submit to OMB for a revision in compliance with the Paperwork Reduction Act (PRA). This ICR is being revised to reflect additional enrollment and vendor options in accordance with the TSA Modernization Act, to address TSA's plans to utilize other DHS component services, and to use surveys to determine satisfaction and customer engagement with TSA Pre✓®. The ICR describes the nature of the information collection and its expected burden. The collection involves the voluntary submission of biographic and biometric information that TSA uses to verify identity and conduct a security threat assessment (STA) for the TSA Pre✓® Application Program. The STA compares an applicant's information against criminal history, immigration, intelligence, and regulatory violations databases to determine if the person poses a low risk to transportation or national security and should be eligible for expedited screening through TSA Pre✓® lanes at airports.

DATES: Send your comments by January 3, 2020.

ADDRESSES: Comments may be emailed to TSAPRA@tsa.dhs.gov or delivered to the TSA PRA Officer, Information Technology (IT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Pursuant to the statutory authorities explained below, the Transportation Security Administration (TSA) has implemented a voluntary enrollment program for individuals to apply for the TSA Pre✓® Application Program. Section 109(a)(3) of the Aviation and Transportation Security Act (ATSA), Public Law 107-71 (115 Stat. 597, 613, Nov. 19, 2001, codified at 49 U.S.C. 114 note) provides TSA with the authority to “establish requirements to implement trusted programs and use available technologies to expedite security screening of passengers who participate in such programs, thereby allowing security screening personnel to focus on those passengers who should be subject to more extensive screening.” In addition, TSA has express, statutory authority to establish and collect a fee for any registered traveler program by publication of a notice in the Federal Register, as outlined in the Department of Homeland Security Appropriations Act, 2006, Public Law 109-90 (119 Stat. 2064, 2088-89, Oct. 18, 2005).

Under the TSA Pre✓® Application Program, individuals may submit biographic and biometric ¹ information directly to TSA that TSA uses to conduct an STA of criminal, immigration, intelligence, and regulatory violation databases. TSA uses the STA results to decide if an individual poses a low risk to transportation or national security. TSA issues approved applicants a known traveler number (KTN) that they may use when making travel reservations. Airline passengers who submit a KTN when making airline reservations are eligible for expedited screening on flights originating from U.S. airports.² TSA uses the traveler's KTN and other information during passenger prescreening to verify that the individual traveling matches the information on TSA's list of known travelers and to confirm TSA Pre✓® expedited screening eligibility.

¹ Unless otherwise specified, for the purposes of this document, “biometrics” refers to fingerprints and/or facial imagery.

² Passengers who are eligible for expedited screening typically will receive more limited physical screening; e.g., will be able to leave on their shoes, light outerwear, and belt; to keep their laptop in its case; and to keep their 3-1-1 compliant liquids/gels bag in a carry-on.

Interested applicants must provide certain minimum required data elements, including, but not limited to, name, date of birth, gender, address, contact information, country of birth, images of identity documents, proof of citizenship or immigration status, and biometrics via a secure interface. TSA uses this information to conduct an STA, make a final eligibility determination for the TSA Pre✓® Application Program, and verify the identities of TSA Pre✓® enrolled and approved individuals when they are traveling.

TSA sends the applicants' fingerprints and associated information to the Federal Bureau of Investigation (FBI) for the purpose of comparing their fingerprints to other fingerprints in the FBI's Next Generation Identification (NGI) system or its successor systems including civil, criminal, and latent fingerprint repositories. The FBI may retain applicants' fingerprints and associated information in NGI after the completion of their application and, while retained, their fingerprints may continue to be compared against other fingerprints submitted to or retained by NGI as part of the FBI's Rap Back program.³ In retaining applicants' fingerprints, the FBI conducts recurrent vetting of applicants' criminal history until the expiration date of the applicant's STA. TSA also transmits applicants' biometrics for enrollment into the Department of Homeland Security Automated Biometrics Identification System (IDENT) and its successor systems for recurrent vetting of applicants' criminal history, lawful presence, and ties to terrorism.

³ The FBI's Rap Back service allows authorized agencies to receive on-going status notifications of any criminal history reported to the FBI after the initial processing and retention of criminal or civil transactions using fingerprint identification.

TSA is revising the collection of information to reflect additional enrollment and vendor options in accordance with the TSA Modernization Act, Division K of the FAA Reauthorization Act of 2018, Public Law 115-254 (132 Stat. 3185; Oct. 5, 2018) at section 1937, codified at 49 U.S.C. 44919. TSA expects to offer additional TSA Pre✓® Application Program enrollment opportunities at airports to reduce the burden on frequent travelers. Enrollment vendors may use commercial sources for the purpose of identity verification, or they may contact issuing sources of identity documents, such as State departments of motor vehicles for the same purpose. This revision also addresses TSA's plans to utilize DHS components' services, provided via U.S. Customs and Border Protection and the Office of Biometric Identity Management, to support TSA's biometric-based identification at the checkpoint and citizenship verification through passport information provided by the Department of State. Lastly, TSA intends to collect information from TSA Pre✓® members after enrollment through surveys to determine satisfaction and customer engagement with TSA Pre✓®.

When the STA is complete, TSA makes a final determination on eligibility for the TSA Pre✓® Application Program and notifies applicants of its decision. Most applicants generally should expect to receive notification from TSA within two to three weeks of the submission of their completed applications. If initially deemed ineligible by TSA, applicants will have an opportunity to correct cases of misidentification or inaccurate criminal records. Applicants must submit a correction of any information they believe to be inaccurate within 60 days of issuance of TSA's letter. If a corrected record is not received by TSA within the specified amount of time, the agency may make a final determination to deny eligibility. Individuals who TSA determines are ineligible for the TSA Pre✓® Application Program will undergo standard screening at airport security checkpoints.

The TSA Pre✓® Application Program enhances aviation security by permitting TSA to better focus its limited security resources on passengers who are unknown to TSA and whose level of risk is undetermined, while also facilitating and improving the commercial aviation travel experience for the public. Travelers who choose not to enroll in this initiative are not subject to any limitations on their travel because of their choice; they will be processed through normal TSA screening before entering the sterile areas of airports. TSA also retains the authority to perform standard or other screening on a random basis on TSA Pre✓® Application Program participants and any other travelers authorized to receive expedited physical screening.

TSA estimates that there will be 1,815,779 new enrollments, 1,245,184 online renewals, and 52,159 in-person renewals (3,113,122 total enrollments) annualized over a three-year period. This estimate is based on current and projected enrollment with TSA's existing program. TSA estimates that there will be 4,211,661 annualized hours based on a three-year projection to include enrollment, renewals, and surveys. TSA estimates an average of 1.8968 hours per applicant to complete the enrollment process, which includes providing biographic and biometric information to TSA (via an enrollment center or pre- or post-enrollment options) and the burden for any records correction for the applicant, if applicable. TSA estimates an average of 0.1666 hours per applicant to complete the on-line renewal process. TSA estimates an average of 0.0833 hours per an estimated 6,310,473 annual survey respondents to include post-enrollment, non-renewal and other TSA Pre✓® surveys.

Dated: October 29, 2019.
Christina A. Walsh,
TSA Paperwork Reduction Act Officer, Information Technology.

[FR Doc. 2019-23971 Filed 11-1-19; 8:45 am]

BILLING CODE 9110-05-P